DEPARTMENT OF ENERGY

Bonneville Power Administration

Mid-Columbia Coho Restoration Program

AGENCY: Bonneville Power Administration (BPA), Department of Energy (DOE).

ACTION: Notice of availability of Record of Decision (ROD).

SUMMARY: This notice announces the availability of the ROD for the Mid-Columbia Coho restoration program, sponsored by the Confederated Tribes and Bands of the Yakama Nation and based on the Mid-Columbia Coho Restoration Program EIS (DOE/EIS-0425, March 2012). The purpose of the program is to re-establish naturally spawning coho populations to harvestable levels in tributaries of the Wenatchee and Methow basins in north-central Washington State (Okanogan and Chelan Counties). To accomplish this goal, the Yakama Nation would expand an existing program, ongoing since 1996, by releasing up to 2.16 million coho smolts from up to 24 new acclimation sites in both basins. The Yakama Nation would also continue the use of hatcheries, incubation, and broodstock collection sites already in use by the existing program; build a small new hatchery in the Wenatchee basin; and implement a comprehensive monitoring and evaluation program.

The ROD describes BPA's decision to fund the final phases of this program in order to honor commitments outlined in the 2008 Columbia Basin Fish Accords Memorandum of Agreement and to mitigate for the effects of the Federal Columbia River Power System on fish and wildlife in the Columbia River.

ADDRESSES: Copies of the ROD and EIS may be obtained by calling BPA's toll-free document request line, 1-800-622-4519. The ROD and EIS Summary are also available on our Web sites, www.bpa.gov/go/midcolumbiacoho and http://www.bpa.gov/corporate/pubs/RODS/2012/.

FOR FURTHER INFORMATION CONTACT: Nancy Weintraub, Bonneville Power Administration—KEC-4, P.O. Box 3621, Portland, Oregon 97208-3621; toll-free telephone number 1-800-622-4519; fax number 503-230-5699; or email nhweintraub@bpa.gov.

Issued in Portland, Oregon, on July 19, 2012.
Anita J. Decker,
Acting Administrator and Chief Executive Officer.

[FR Doc. 2012-18635 Filed 7-30-12; 8:45 am]

BILLING CODE 6450-01-P